DEPARTMENT OF JUSTICE

Notice of Lodging of Proposed Consent Decree Under the Clean Water Act

On June 21, 2018, the Department of Justice lodged a proposed consent decree with the United States District Court for the District of Hawaii in United States of America v. TWOL LLC et al., Civil Action No. 1:18-cv-00242.

The complaint in this Clean Water Act (“CWA”) case was filed against the defendants concurrently with the lodging of the consent decree. The complaint alleges that Defendants TWOL LLC, Loi Chi Hang, and Nguyen Ngoc Tran are each liable for civil penalties stemming from violations of the CWA, 33 U.S.C. 1321, aboard the Honolulu-based commercial fishing vessel Pacific Dragon f/k/a Elizabeth. The United States' allegations address discharges of oily waste from the vessel's bilge while fishing for tuna off the Hawaiian coast and violations of the United States Coast Guard's pollution control regulations, including failure to provide sufficient capacity to retain oily bilge water on board the vessel. The complaint seeks civil penalties from TWOL LLC, Mr. Hang, and Mr. Tran, along with injunctive relief from the same defendants and Defendant LNK Fishery LLC. TWOL LLC was the owner of the Pacific Dragon f/k/a Elizabeth when the alleged CWA violations occurred, and LNK Fishery LLC is the current owner of the vessel. Mr. Hang and Mr. Tran are managing members of both companies.

Under the proposed consent decree, the defendants will perform corrective measures to remedy the violations and prevent future violations, including: (1) Repairing the vessel to reduce the quantity of oily waste generated during a fishing voyage; (2) providing crewmembers with training on the proper handling of oily wastes; (3) documenting proper oily waste management and disposal after returning to port; and (4) submitting compliance reports to the Coast Guard and to the Department of Justice.

The consent decree also requires TWOL LLC, Mr. Hang, and Mr. Tran to each pay a civil penalty. The penalty amounts were set after considering each defendant's limited ability to pay a higher penalty, as demonstrated through documentation submitted to the United States and analyzed by a financial expert. TWOL LLC must pay a civil penalty of $1,000; Mr. Hang must pay a civil penalty of $8,000; and Mr. Tran must pay a civil penalty of $5,000. Under the terms of the CWA, the penalties paid for these discharges will be deposited in the federal Oil Spill Liability Trust Fund managed by the National Pollution Funds Center.

The publication of this notice opens a period for public comment on the proposed consent decree. Comments should be addressed to the Assistant Attorney General, Environment and Natural Resources Division, and should refer to United States of America v. TWOL LLC et al., D.J. Ref. No. 90-5-1-1-11818. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $15.50 (25 cents per page reproduction cost) payable to the United States Treasury.

Henry Friedman,
Assistant Section Chief, Environmental Enforcement Section, Environment and Natural Resources Division.

[FR Doc. 2018-13873 Filed 6-27-18; 8:45 am]

BILLING CODE 4410-15-P